DEPARTMENT OF ENERGY

Federal Energy Regulatory Commission

[Project No. 4492-003]

Montgomery Worsted Mills, City Winery Hudson Valley LLC; Notice of Transfer of Exemption

1. On June 11, 2019, as supplemented July 16, 2019, Montgomery Worsted Mills, exemptee for the Montgomery Worsted Mills Hydroelectric Project No. 4492, filed a letter notifying the Commission that the project was transferred from the Montgomery Worsted Mills to City Winery Hudson Valley LLC. The exemption from licensing was originally issued on September 29, 1981.¹ The project is located on the Wallkill River, Orange County, NY. The transfer of an exemption does not require Commission approval.

¹ Steinberger Bros., Inc./Montgomery Worsted Mills, 16 FERC ¶ 62,610 (1981).

2. City Winery Hudson Valley LLC is now the exemptee of the Worsted Mills Hydroelectric Project No. 4492. All correspondence must be forwarded to: Mr. Dylan Rocke, City Winery Hudson Valley LLC, 23 Factory Street, Montgomery, NY 12549, Phone: 201-403-1549, Email: dilan@citywinery.com.

Dated: October 16, 2019.
Kimberly D. Bose,
Secretary.

[FR Doc. 2019-23005 Filed 10-21-19; 8:45 am]

BILLING CODE 6717-01-P